DEPARTMENT OF LABOR

Employment and Training Administration

[NAFTA-03615]

Tandycrafts, Inc., Tandyarts, Inc./Impulse Designs Pinnacle Art and Frame Division Van Nuys, California; Amended Certification Regarding Eligibility To Apply for NAFTA-Transitional Adjustment Assistance

In accordance with section 250(A), Subchapter D, Chapter 2, Title II, of the Trade Act of 1974 (19 U.S.C. 2273), the Department of Labor issued a Certification for NAFTA Transitional Adjustment Assistance on March 11, 1999, applicable to workers of Tandycrafts, Inc., Pinnacle Art and Frame Division, Van Nuys, California. The notice was published in the Federal Register on January 14, 2000 (65 FR 2433).

At the request of the company and State agency, the Department reviewed the certification for workers of the subject firm. The workers are engaged in the production of framed art, mirrors and photo frames. New information shows that in November, 1993, Tandycrafts, Inc. purchased Impulse Designs and formed a new company called Tandyarts, Inc./Impulse Designs. The company also reports that workers separated from employment at Tandycrafts, Inc., Pinnacle Art and Frame Division had their wages reported under a separate unemployment insurance (UI) tax account for Tandycrafts, Incorporated, Tandyarts, Inc./Impulse Designs, Pinnacle Art and Frame Division, Van Nuys, California.

Based on these findings, the Department is amending the certification to reflect this matter.

The intent of the Department's certification is to include all workers of Tandycraft, Inc., Pinnacle Art and Frame Division who were adversely affected by imports from Mexico.

The amended notice applicable to NAFTA-03615 is hereby issued as follows:

“All workers of Trandycraft, Inc., Tandyarts, Inc./Impulse Designs, Pinnacle Art and Frame Division, Van Nuys, California who became totally or partially separated from employment on or after August 23, 1998 through December 22, 2001 are eligible to apply for NAFTA-TAA under Section 250 of the Trade Act of 1974.”

Signed at Washington, D.C. this 3rd day of April, 2000.
Grant D. Beale,
Program Manager, Division of Trade Adjustment Assistance.

[FR Doc. 00-8919 Filed 4-10-00; 8:45 am]

BILLING CODE 4510-30-M